Title 3—

The President

Proclamation 10846 of October 31, 2024

Critical Infrastructure Security and Resilience Month, 2024

By the President of the United States of America

A Proclamation

From the energy that powers our homes to the networks that connect us and the systems that protect our health and safety, our critical infrastructure keeps our economy thriving and our communities secure. This Critical Infrastructure Security and Resilience Month, we recommit to strengthening our country's critical infrastructure and building an America that is safe and secure for generations to come.

This year, I signed a National Security Memorandum to secure and enhance the resilience of United States critical infrastructure—updating the policy for the first time in a decade. This represents the launch of a new era in protecting our infrastructure against all threats and hazards by safeguarding our strong and innovative economy and enhancing our collective resilience to disasters before they happen. But there is more to do. Climate change is making natural disasters more frequent, ferocious, and costly—endangering our supply chains, creating more instability for our communities, and straining the critical infrastructure Americans depend on for their livelihoods. And we need to stay vigilant against adversaries that seek to maliciously target our critical infrastructure, including through cyberattacks.

To meet this moment, my Administration made a once-in-a-generation investment in our Nation's infrastructure—creating an opportunity to build in resilience to all hazards upfront and by design. Through my American Rescue Plan, Bipartisan Infrastructure Law, Inflation Reduction Act, and CHIPS and Science Act, we are investing billions of dollars to secure and bolster our infrastructure. That includes improving our electric grid so that people can maintain power in any situation, elevating roads and bridges over possible flood zones, funding community resilience programs, and more. These investments have not only helped to protect Americans—they have benefited our economy, creating jobs and new possibilities for our communities. At the NATO summit this year, I announced an arrangement with Canada and Finland to collaborate on the production of polar icebreakers. The partnership will advance United States economic and national security interests by strengthening our shipbuilding and industrial capacity while simultaneously opening up new trade routes and pushing back against foreign aggression and bolstering our international alliances. This year, I also announced a United States Port Security Initiative to reverse our dependence on foreign manufactured port equipment.

Ensuring our Nation is resilient in the face of threats also means working with other nations around the globe to build better, stronger, and more sustainable infrastructure. At the G7 Summit in June, I was proud to announce the historic progress we have made with our Partnership for Global Infrastructure and Investment. This initiative will strengthen United States national and economic security for Americans at home and enable sustainable economic growth for partner countries. To date, we have mobilized $60 billion to create high-quality global infrastructure. That comes on top of our work with the European Union and African heads of state to develop the Lobito Corridor as well as our work with the Democratic Republic of the Congo and Zambia to expand regional and global trade markets through the Port of Lobito in Angola. We continue to pursue opportunities to expand our investments across Africa and around the world, including the Indo-Pacific, Central Asia, the Middle East, and the Western Hemisphere. Investments like these create more shared opportunities, prosperity, and security for everyone.

Across the Nation, America is writing the greatest comeback story we have ever known—people are putting shovels in the ground, founding new businesses, and creating hope for entire communities. It is more important now than ever before that we remain vigilant against any threats that seek to undermine our collective security and prosperity.

During Critical Infrastructure Security and Resilience Month, we recommit to safeguarding and strengthening our Nation's critical infrastructure to save lives and allow our Nation to continue doing what it does best: creating new possibilities.

NOW, THEREFORE, I, JOSEPH R. BIDEN JR., President of the United States of America, by virtue of the authority vested in me by the Constitution and the laws of the United States, do hereby proclaim November 2024 as Critical Infrastructure Security and Resilience Month. I call upon the people of the United States to recognize the importance of protecting our Nation's infrastructure and to observe this month with appropriate measures to enhance our national security and resilience.

IN WITNESS WHEREOF, I have hereunto set my hand this thirty-first day of October, in the year of our Lord two thousand twenty-four, and of the Independence of the United States of America the two hundred and forty-ninth.

[FR Doc. 2024-25798

Filed 11-4-24; 8:45 am]

Billing code 3395-F4-P